DEPARTMENT OF THE INTERIOR

National Park Service

National Register of Historic Places; Notification of Pending Nominations

Nominations for the following properties being considered for listing in the National Register were received by the National Park Service before October 12, 2002. Pursuant to § 60.13 of 36 CFR Part 60 written comments concerning the significance of these properties under the National Register criteria for evaluation may be forwarded by the United States Postal Service, to the National Register Historic Places, National Park Service, 1849 C St. NW, NC400, Washington, DC 20240; by all other carriers, National Register of Historic Places, National Park Service,1201 Eye St. NW, 8th floor, Washington, DC 20005; or by fax, 202-343-1836. Written or faxed comments should be submitted by November 18, 2002.

Carol D. Shull,
Keeper of the National Register of Historic Places.

ARIZONA

Navajo County

Hubbell, Lorenzo, Trading Post and Warehouse, 523 W. Second St., Winslow, 02001383

Pinal County

Picacho Pass Skirmish Site—Overland Mail Co. Stage Station at Picacho Pass, 1 mi. NW of I-10, Interchange #219, Picacho, 02001384

CALIFORNIA

Modoc County

Nelson Springs, Address Restricted, Likely, 02001393

Mono County

Dry Lakes Plateau, Address Restricted, Bodie Hills, 02001394

Placer County

Stevens Trail, Roughly bounded by Iowa Hill, canyon of North fork of American R., until at Secret Ravine, top of ridge of Colfax, Colfax, 02001391

San Francisco County

Central Embarcadero Piers Historic District, Piers 1, 1½, 3 and 5, The Embarcadero, San Francisco, 02001390

Santa Barbara County

Point Sal Ataje, Address Restricted, Point Sal Highlands, 02001392

GEORGIA

Fulton County

Reynoldstown Historic District, Roughly bounded by the CSX rail line, Memorial Dr., Pearl St., and Moreland, Atlanta, 02001405

Putnam County

Rockville Academy and St. Paul Methodist Church Historic District, E of Eatonton and S of GA 16, Rockville Rd., Eatonton, 02001382

ILLINOIS

Cook County

Automatic Electric Company Building, 1001 W. Van Buren, Chicago, 02001386

Berwyn Health Center, 6600 W. 26th St., Berwyn, 02001352

Fuller Park, (Chicago Park District MPS) 331 W. 45th St., Chicago, 02001347

Maxwell—Briscoe Automobile Company Showroom, (Motor Row, Chicago, Illinois MPS) 1737 S. Michigan Ave., Chicago, 02001349

Motor Row Historic District, (Motor Row, Chicago, Illinois MPS) Roughly bounded by 22nd St., Indiana St., 24th Place, and Wabash St., Chicago, 02001387

Norwood Park Historical District, Roughly bounded by Harlem Ave., Nagle Ave., Bryn Mawr Ave., and Avondale St., Chicago, 02001350

Scoville Place, Jct. of Lake St. and Oak Park Ave., Oak Park, 02001351

Lake County

Waukegan Building, 4 S. Genesee St., Waukegan, 02001355

Madison County

Collins, Daniel Dove, House, 621 W. Main St., Collinsville, 02001385

Norodni Sin, 209-211 E. Vandalia, Edwardsville, 02001353

Ogle County

Buffalo Grove Lime Kiln, Galena Trail Rd., Polo, 02001348

Williamson County

Stotlar, Ed. M., House, 1304 W. Main St., Marion, 02001354

MISSISSIPPI

Greene County

Vernal Presbyterian Church, 455 McInnis—Vernal Rd., Lucedale, 02001389

Hinds County

Welty, Eudora, House, 1119 Pinehurst St., Jackson, 02001388

MISSOURI

Cole County

Kaullen Mercantile Company, 900 and 902 E. High St., Jefferson City, 02001402

Jackson County

Kansas City Club Building, 1228 Baltimore Ave., Kansas City, 02001401

TWA Corporate Headquarters' Building, 1735-1741 Baltimore Ave.—1740 Main St., Kansas City, 02001403

Marion County

Maple Avenue Historic District, Roughly bounded by Broadway and Center St., Alley to North St., Dulany to Section, Hannibal, 02001404

NEW YORK

Albany County

First Reformed Dutch Church of Bethlehem, US 9W, Bethlehem, 02001398

Delaware County

Congregation Bnai Israel Synagogue, Wagner Ave., Fleischmanns, 02001396

Queens County

Congregation Tifereth Israel, 109-18 and 109-20 54th Ave., Corona, 02001357

Rensselaer County

Lansingburgh Village Burial Ground, Third Ave. and 107th St., Troy, 02001358

Richmond County

Calvary Presbyterian Church, 909 Castleton Ave., Staten Island, 02001356

Schuyler County

Watkins Glen Grand Prix Course, 1948-1952, Franklin St., NY 329, NY 409, Watkins Glen, 02001397

Sullivan County

St. John's Episcopal Church and Rectory, 15 St. John's St., Monticello, 02001359

Ulster County

K. WHITTELSEY (Tugboat), 3 North St. at Rondout Creek, Kingston, 02001395

Ulster House Hotel, Main St. at Academy Rd., Pine Hill, 02001399

Westchester County

Peekskill Presbyterian Church, 705 South St., Peekskill, 02001400

OHIO

Cuyahoga County

Weizer Building, 11801 Buckeye Rd., Cleveland, 02001360

TENNESSEE

Madison County

New Souther Hotel, 112-120 E. Baltimore St., Jackson, 02001378

Rutherford County

Lytle Cemetery, 739 NW Broad St., Murfreesboro, 02001376

Shelby County

Martin Memorial Temple CME Church, 65 S. Parkway West, Memphis, 02001379

Warren County

City Cemetery, South High St., McMinnville, 02001377

VERMONT

Addison County

Brooksville Advent Church, (Religious Buildings, Sites and Structures in Vermont MPS) 1338 Dog Team Tavern Rd., New Haven, 02001380

Dog Team Tavern, 1338 Dog Team Tavern Rd., New Haven, 02001381

VIRGINIA

Augusta County

Bare House and Mill, 157 Wilda Rd., Stuarts Draft, 02001364

Carroll County

Carter Hydraulic Rams, Off Grayson St. and U.S. 221, Hillsville, 02001373

Franklin County

Bleak Hill, Address Restricted, Callaway, 02001374

Greene County

Powell—McMullan House, 233 McMullen Mill Rd., Stanardsville, 02001367

Hanover County

Hanover Wayside, 8225 Hanover Wayside Rd., Hanover, 02001365

Henry County

Old Turner Place, 7643 Henry Rd., Henry, 02001371

Lynchburg Independent city

Court House Hill—Downtown Historic District (Boundary Increase), Roughly along Madison St., Harrison St., 7th St., 6th St., Lynchburg (Independent City), 02001361

Page County

Wall Brook Farm, 967 Longs Rd., Luray, 02001375

Richmond Independent city

Bryan, Joseph, Park, 4308 Hermitage Rd., Richmond (Independent City), 02001369

Church of the Sacred Heart, 1401 Perry St., Richmond (Independent City), 02001368

New Pump House, 1708 Pump House Dr., Richmond (Independent City), 02001366

Rockbridge County

Hamilton Schoolhouse, VA 611, S. Buffalo Rd., Lexington, 02001372

Tazewell County

Moore, Capt. James, Homestead, VA 644, Boissevain, 02001363

Sanders, Walter McDonald, House, College Ave., Bluefield, 02001370

Wise County

Southwest Virginia Museum Historical State Park, 10 W. Street N, Big Stone Gap, 02001362

A request for REMOVAL has been made for the following resources:

IOWA

Washington County

Rubio Bridge, (Highway Bridges in Iowa MPD) Over Skunk R. Rubio vicinity, 98000471

PENNSYLVANIA

Lackawanna County

Dalton House E. Main St. Dalton, 78002410

[FR Doc. 02-27880 Filed 10-31-02; 8:45 am]

BILLING CODE 4310-70-P